DEPARTMENT OF THE INTERIOR

Bureau of Land Management

[MT-920-01-1310-FI-P; (MTM 82821, MTM 84944, NDM 86224]

Notice of Proposed Reinstatement of Terminated Oil and Gas Leases MTM 82821, MTM 84944, NDM 86224

AGENCY: Bureau of Land Management, Interior.

ACTION: Notice.

SUMMARY: Per Public Law 97-451, the lessee timely filed a petition for reinstatement of oil and gas leases MTM 82821 and MTM 84944, Sheridan County, Montana, and NDM 86224, Billings County, North Dakota. The lessee paid the required rentals accruing from the date of termination.

We haven't issued any leases affecting the lands. The lessee agrees to new lease terms for rentals and royalties of $5 per acre and 16\2/3\ percent or 4 percentages above the existing competitive royalty rate on lease MTM 82821 and $10 per acre and 16\2/3\ percent or 4 percentages above the existing competitive royalty rate on leases MTM 84944 and NDM 86224. The lessee paid the $500 administration fee for the reinstatement of each lease and $148 cost for publishing this Notice.

The lessee met the requirements for reinstatement of the leases per section 31 (d) and (e) of the Mineral Leasing Act of 1920 (30 U.S.C. 188). We are proposing to reinstate the leases, effective the date of termination subject to:

• The original terms and conditions of the lease;

• The increased rental of $5 per acre for lease MTM 82821;

• The increased rental of $10 per acre for leases MTM 84944 and NDM 86224;

• The increased royalty of 16⅔ percent or 4 percentages above the existing competitive royalty rate; and

• The $148 cost of publishing this Notice.

FOR FURTHER INFORMATION CONTACT: Karen L. Johnson, Chief, Fluids Adjudication Section, BLM Montana State Office, PO Box 36800, Billings, Montana 59107, 406-896-5098.

Dated: August 16, 2001.
Karen L. Johnson,
Chief, Fluids Adjudication Section.

[FR Doc. 01-22945 Filed 9-12-01; 8:45 am]

BILLING CODE 4310-DN-P